DEPARTMENT OF HEALTH AND HUMAN SERVICES

National Committee on Vital and Health Statistics; Meeting

Pursuant to the Federal Advisory Committee Act, the Department of Health and Human Services (HHS) announces the following advisory committee meeting.

Name: National Committee on Vital and Health Statistics (NCVHS), Subcommittee on Standards and Security.

Times and Dates: 9 a.m. to 5 p.m., March 19, 2001; and 9 a.m. to 5 p.m., March 20, 2001.

Place: Room 505A, Hubert H. Humphrey Building, 200 Independence Avenue, SW., Washington, DC 20201.

Status: Open.

Purpose: The purpose of this hearing is for NCVHS to obtain public input for the process of making recommendations to the HHS Secretary about specific standards for Patient Medical Record Information (PMRI). The process will include developing (1) criteria for the selection of PMRI message format standards for recommendation to the HHS Secretary, (2) a draft set of questions to PMRI standards developers which is intended to assist the NCVHS select PMRI standards, (3) a proposed list of PMRI transactions that may be considered in the first phase for recommendation to the HHS Secretary, and (4) making any additional comments or critiques about this process.

Notice: In the interest of security, the Department has instituted stringent procedures for entrance to the Hubert H. Humphrey building by non-government employees. Thus, persons without a government identification card will need to have the guard call for an escort to the meeting.

Contact Person for More Information: Substantive program information as well as summaries of meetings and a roster of committee members may be obtained from J. Michael Fitzmaurice, Ph.D., Senior Science Advisor for Information Technology, Agency for Health Care Research and Quality, 2101 East Jefferson Street, #600, Rockville, MD 20852, phone: (301) 594-3938; or Marjorie S. Greenberg, Executive Secretary, NCVHS, National Center for Health Statistics, Centers for Disease Control and Prevention, Room 1100, Presidential Building, 6525 Belcrest Road, Hyattsville, Maryland 20782, telephone (301) 458-4245. Information also is available on the NCVHS home page of the HHS website: http://www.ncvhs.hhs.gov/ where an agenda for the meeting will be posted when available.

Dated: March 2, 2001.
James Scanlon,
Director, Division of Data Policy, Office of the Assistant Secretary for Planning and Evaluation.

[FR Doc. 01-5972 Filed 3-9-01; 8:45 am]

BILLING CODE 4151-05-M